DEPARTMENT OF DEFENSE

Department of the Air Force

[Docket ID: USAF-2009-0029]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on June 5, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6489.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on April 30, 2009 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: April 30, 2009.
Morgan E. Frazier,
OSD Federal Register Liaison Officer, Department of Defense.

F036 AFPC R

System Name:

Air Force Personnel Accountability and Assessment System (AFPAAS).

System location:

Space and Naval Warfare Systems Center, 53560 Hull Street, San Diego, CA 92152-5001.

Categories of individuals covered by the system:

Air Force personnel (military, civilian, National Guard, Reserves) and their family members; non-appropriated fund employees; contractors and their family members who are involved in a natural or other man-made major disaster; catastrophic event; or in support of the Global War on Terrorism.

Categories of records in the system:

Individual's full name; home and duty stations addresses; home, business, and cell telephone numbers; military/civilian status; marital status; Social Security Number (SSN); dates of birth; Unit Identification Code (UIC); date of last contact; insurance company; Federal Emergency Management Agency (FEMA) number; email address; dependent information; father/mother name and address, designated person's name and address; contracting agency and telephone number (if contractor); beneficiary information; witness signature, rank, and grade; travel orders/vouchers; assessment date; needs assessment information; type of event; category classification (employee affiliation i.e. active duty, guard, reserve, contractor, family member); and command information.

Authority for maintenance of the system:

10 U.S.C. 8013, Secretary of the Air Force; DoDI 3001.02, Personnel Accountability in conjunction with Natural or Manmade Disasters; AFI 10-218, Personnel Accountability in conjunction with Natural Disasters or National Emergencies and E.O. 9397 (SSN).

Purpose(s):

To assess disaster-related needs (i.e., status of family members, housing, medical, financial assistance, employment, pay and benefits, transportation, child care, pastoral care/counseling, and general legal matters) of Air Force personnel and their families who have been involved in a natural or other man-made major disaster or catastrophic event.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the Air Force's compilation of systems of records notices also apply to this system and can be viewed at the Defense Privacy Office Web site.

Policies and practices for storing, retrieving, accessing, retaining, and disposing of records in the system:

Storage:

Electronic storage media.

Retrievability:

Name, Social Security Number (SSN) and date of birth.

Safeguards:

Password controlled system, file, and element access is based on predefined need-to-know. Physical access to terminals, terminal rooms, buildings and activities' grounds are controlled by locked terminals and rooms, guards, personnel screening and visitor registers.

Retention and disposal:

Event and recovery assistance records are destroyed two years after all actions are completed.

System manager(s) and address:

Deputy Chief Air Expeditionary Force and Personnel Operations Division, Headquarters Air Force Personnel Center, 550 C. Street West, Randolph Air Force Base, Texas 78150-4733.

Notification procedure:

Individuals seeking to determine whether this system of records contains information about themselves should address written inquiries to the Deputy Chief Air Expeditionary Force and Personnel Operations Division, Headquarters Air Force Personnel Center, 550 C. Street West, Randolph Air Force Base, Texas 78150-4733.

The request should include individual's full name, Social Security Number (SSN), address, date of birth, and signature.

Record access procedures:

Individuals seeking access to records about themselves contained in this system of records should address written inquiries to the Deputy Chief Air Expeditionary Force and Personnel Operations Division, Headquarters Air Force Personnel Center, 550 C. Street West, Randolph Air Force Base, Texas 78150-4733.

The request should include individual's full name, Social Security Number (SSN), address, date of birth, and signature.

Contesting record procedures:

The Air Force's rules for accessing records, and for contesting contents and appealing initial agency determinations are published in Secretary of the Air Force Instruction 33-332; 32 CFR part 806; or may be obtained from the system manager.

Record source categories:

Individual; personnel files; Needs Assessment Survey; Defense Manpower Data Center; Defense Civilian Personnel Data System (DCPDS); command personnel and Defense Enrollment Eligibility Reporting System (DEERS).

Exemptions claimed for the system:

None.

[FR Doc. E9-10415 Filed 5-5-09; 8:45 am]

BILLING CODE 5001-05-P